ENVIRONMENTAL PROTECTION AGENCY

[ER-FRL-6640-9]

Environmental Impact Statements; Notice of Availability

Responsible Agency: Office of Federal Activities, General Information (202) 564-7167 or http://epa.gov/compliance/nepa/. Weekly receipt of Environmental Impact Statements, filed June 2, 2003, through June 6, 2003. Pursuant to 40 CFR 1506.9.

EIS No. 030258, FINAL SUPPLEMENT, AFS, MT, Keystone-Quartz Ecosystem Management Plan, Implementation, updated information on alternatives, Beaverhead-Deerlodge National Forest, Wise River Ranger District, Beaverhead County, MT, wait period ends: July 14, 2003, contact: Greg Clark (406) 683-3935.

EIS No. 030259, DRAFT EIS, FHW, NJ, Penns Neck Area Project, Phase I Archeological Survey, located in West Windsor and Princeton Townships, Mercer County, and Plainboro Township, Middlesex County, NJ, due: comment period ends: August 1, 2003, contact: Young Kim (609) 637-4233.

EIS No. 030260, DRAFT EIS, FHW, OH, Butler County, OH-63 Extension to U.S. 127 (Trenton area access), construction of a multi-lane limited access, divided highway on new alignment from east of OH-41/OH-63 interchange in the city of Monroe, Butler County, OH, comment period ends: July 28, 2003, contact: Larry Anderson (614) 469-6896.

EIS No. 030261, DRAFT EIS, NPS, MT, Glacier National Park Commercial Services Plan, General Management Plan, implementation, Glacier National Park, a portion of Waterton-Glacier International Peace Park, Flathead and Glacier Counties, MT, comment period ends: July 30, 2003, contact: Mary Riddle (406) 888-7898.

EIS No. 030262, FINAL EIS, NPS, MO, Wilson's Creek National Battlefield General Management Plan, implementation, Battle of Wilson's Creek commemoration and associated battlefield preservation, Greene and Christian Counties, MO, wait period ends: July 14, 2003, contact: Nick Chevance (402) 221-7286. This document is available on the Internet at: http://www.nps.gov/glac/plans.htm.

EIS No. 030263, DRAFT SUPPLEMENT, AFS, CA, NV, Sierra Nevada Forest Plan Amendment, new information on a range of alternatives for amending land and resource management plans, Modoc, Lasser, Plumas, Tahoe, Eldorado, Stanislaus, Sequoia, Sierra, Inyo and Humboldt-Toiyabe National Forests, and the Lake Tahoe Basin Management Unit, several counties, CA and NV, comment period ends: September 12, 2003, contact: Kathleen Morse (907) 562-8822.

EIS No. 030264, DRAFT EIS, AFS, CO, Upper Blue Stewardship Project, vegetation management, travel management, and dispersed camping sites designation, implementation, U.S. Army COE 404 permit, White River National Forest, Dillon Ranger District, Summit County, CO, comment period ends: July 28, 2003, contact: Peech Keller (970) 468-5400.

EIS No. 030265, DRAFT EIS, AFS, SD, Prairie Project Area, (Lower Rapid Creek Area) multiple resource management actions, implementation, Black Hills National Forest, Mystic Ranger District, Pennington County, ID, comment period ends: July 28, 2003, contact: Robert Thompson (605) 343-1567.

EIS No. 030266, DRAFT EIS, EPA, OSM, SFW, COE, WVEP, WV, KY, VA, TN, Programmatic EIS—Mountaintop Mining and Valley Fills program guidance, policies or regulations to minimize adverse environmental effects to waters of the U.S. and fish and wildlife resources, implementation, Appalachia, Appalachian study area, WV, KY, VA and TN, comment period ends: August 29, 2003, contacts: John Forren (EPA) (215) 814-2705, Katherine Trott (COE) 202-761-4617, Michael Robinson (DOI/OSM) 412-937-2882, Cindy Tibbott (DOI/FWS) 814-234-4090 and Russell Hunter (WV Dept. of EP) 304-759-0510. This document is available on the Internet at: http://www.epa.gov/region3/mtntop/index.htm. U.S. Army Corps of Engineers, U.S. Department of the Interior's Office of Surface Mining and Fish and Wildlife Service, U.S. Environmental Protection Agency and the West Virginia Department of Environmental Protection are joint lead agencies for the above project.

EIS No. 030267, Draft EIS, BLM, CA, West Mojave Plan, Habitat Conservation Plan and Federal Land Use Plan Amendment, implementation, California Desert Conservation Area, portions of San Bernardino, Kern, Inyo, and Los Angeles Cos., CA, comment period ends: September 12, 2003, contact: William Haigh (760) 252-6080.

EIS No. 030268, FINAL SUPPLEMENT, AFS, ID, Brown Creek Timber Sale Project, reviewing and updating information regarding the pileated woodpecker and soil impacts, Payette National Forest, New Meadow Ranger District, Adam County, ID, wait period ends: July 14, 2003, contact: Bob Giles (208) 634-0700. This document is available on the Internet at: http://www.fs.fed.us/r4/payette/main.html.

EIS No. 030269, FINAL SUPPLEMENT, AFS, ID, Little Weiser Landscape Vegetation Management Project, reviewing and updating information regarding the pileated woodpecker and soil impacts, Payette National Forest, Adam County, ID, wait period ends: July 14, 2003, contact: Bob Giles (208) 634-0700. This document is available on the Internet at: http://www.fs.fed.us/r4/payette/main.html.

EIS No. 030270, FINAL SUPPLEMENT, AFS, ID, Sloan-Kennally Timber Sale Project, reviewing and updating information regarding the pileated woodpecker and soil impacts, Payette National Forest, McCall Ranger District, Adam County, ID, wait period ends: July 14, 2003, contact: Bob Giles (208) 634-0700. This document is available on the Internet at: http://www.fs.fed.us/r4/Payette/main.html.

EIS No. 030271, FINAL SUPPLEMENT, AFS, ID, Middle Fork Weiser River Watershed Project, reviewing and updating information regarding the pileated woodpecker and soil impacts, Payette National Forest, Council Ranger District, Adam County, ID, wait period ends: July 14, 2003, contact: Curt Spalding (208) 634-0700. This document is available on the Internet at: http://www.fs.fed.us/r4/Payette/main.html.

EIS No. 030272, FINAL SUPPLEMENT, AFS, ID, Goose Creek Watershed Project, reviewing and updating information regarding the pileated woodpecker and soil impacts, Payette National Forest, New Meadows Ranger District, Adam County, ID, wait period ends: July 14, 2003, contact: Curt Spalding (208) 634-0700. This document is available on the Internet at: http://www.fs.fed.us/r4/Payette/main.html.

EIS No. 030273, DRAFT SUPPLEMENT, AFS, CA, OR, Port-Orford-Cedar Management Plan, implementation, Coos Bay, Medford, and Roseburg Bureau of Land Management districts and the Siskiyou National Forest, Southwest Oregon, comment period ends: September 12, 2003, contact: Ken Denton (503) 326-2368. The U.S. Department of Agriculture, Forest Service and the U.S. Department of the Interior, Bureau of Land Management are joint lead agencies on the above project. This document is available on the Internet at http://www.or.blm.gov/planning/Port-Orford-Cedar_SEIS/.

Amended Notices

EIS No. 030154, Draft EIS, FHW, UT, Southern Corridor, extending from I-15 at reference post 2 in St. George to UT-9 near Hurricane, Endangered Species Act review section 7, right-of-way and U.S. Army Corps section 404 permits, St. George, Washington and Hurricane, Washington County, UT, comment period ends: July 11, 2003, contact: Gregory Punske (801)963-0182. Revision of FR notice published on 4/11/2003: CEQ comment period ending 5/30/2003 has been extended to 7/11/2003.

Dated: June 10, 2003.
Joseph C. Montgomery,
Director, NEPA Compliance Division, Office of Federal Activities.

[FR Doc. 03-15011 Filed 6-12-03; 8:45 am]

BILLING CODE 6560-50-P